DEPARTMENT OF THE INTERIOR

Bureau of Indian Affairs

Environmental Impact Statement for the Renewed Application for the Proposed Los Coyotes Band of Cahuilla and Cupeño Indians Fee-to-Trust Acquisition and Casino-Hotel Project, San Bernardino County, CA

AGENCY: Bureau of Indian Affairs, Interior.

ACTION: Notice of Correction; Republication and Correction.

SUMMARY: The Bureau of Indian Affairs (BIA) is republishing in its entirety a document it published in the March 27, 2009 Federal Register to correct the comment deadline listed in the DATES section. The correct comment deadline is listed in the DATES section of this notice.

DATES: Comments on the scope of the EIS will be accepted until May 11, 2009.

ADDRESSES: You may mail or hand carry written comments to Dale Morris, Regional Director, Pacific Regional Office, Bureau of Indian Affairs, 2800 Cottage Way, Sacramento, California 95825.

FOR FURTHER INFORMATION CONTACT: John Rydzik, Chief, Division of Environment, Cultural Resources Management and Safety, BIA Pacific Region (916) 978-6051.

SUPPLEMENTARY INFORMATION: This notice corrects the comment deadline published in the March 27, 2009 Federal Register. There is no substantive change to the original notice; therefore, the description of the notice published on March 27, 2009 is reprinted here, as follows.

This notice advises the public that the BIA is correcting its previous NOI to prepare an environmental impact statement (EIS) for the Los Coyotes Band of Cahuilla and Cupeño Indians' renewed application for a Proposed Fee-to-Trust Acquisition and Casino-Hotel Project in San Bernardino County, California, which was published on June 6, 2008 (73 FR 32354). The NOI did not include the names of two additional cooperating agencies; provided a larger acreage of land to be transferred from fee to trust status; and contained some inaccuracies in the details of the proposed casino and hotel project. Therefore, this notice is being published, pursuant to the BIA National Environmental Policy Act (NEPA) Handbook, Section 6.4(A)(1), to supplement the June 2008 NOI by:

• Adding the U.S. Environmental Protection Agency and the City of Barstow, California, as cooperating agencies, in addition to the National Indian Gaming Commission and the Los Coyotes Band of Cahuilla and Cupeño Indians;

• Establishing that the proposed land acquisition would involve approximately 23.1 acres, rather than the 45 acres stated in the June 2008 NOI; and

• Correcting the proposed project details represent a smaller proposed development compared to the Los Coyotes Band of Cahuilla Cupeño Indians' original application (specifically, the corrected details are that the proposed project would include a proposed casino of approximately 89,003 square feet, a 160-room hotel, 3,000 parking spaces, and associated food and beverage facilities, retail space, banquet/meeting space and administrative space).

Alternatives identified for analysis include the proposed action, a no-action alternative, a reduced-intensity development alternative, a non-gaming alternative, and an alternative development location alternative. Additional information, including a map of the project site, is available by contacting the person listed in the FOR FURTHER INFORMATION CONTACT section of this notice.

Dated: March 30, 2009.
George T. Skibine,
Deputy Assistant Secretary for Policy and Economic Development.

[FR Doc. E9-8199 Filed 4-9-09; 8:45 am]

BILLING CODE 4310-W7-P